DEPARTMENT OF TRANSPORTATION

Federal Motor Carrier Safety Administration

[Docket No. FMCSA-2008-0211]

Agency Information Collection Activities; Revision of a Currently-Approved Information Collection: Application for Certificate of Registration for Foreign Motor Carriers and Foreign Motor Private Carriers

AGENCY: Federal Motor Carrier Safety Administration (FMCSA), DOT.

ACTION: Notice and request for information.

SUMMARY: In accordance with the Paperwork Reduction Act of 1995, FMCSA announces its plan to submit an Information Collection Request (ICR) to the Office of Management and Budget (OMB) for review and approval. FMCSA requests approval to revise an existing information collection (IC) entitled, “Application for Certificate of Registration for Foreign Motor Carriers and Foreign Motor Private Carriers,” that requires Mexico-domiciled for-hire and private motor carriers to file an application Form OP-2 if they wish to register to transport property only within municipalities in the United States on the U.S.-Mexico international borders or within the commercial zones of such municipalities. On June 9, 2008, FMCSA published a Federal Register notice announcing for a 60-day comment period on the ICR. No comments were received on the ICR.

DATES: Please send your comments by September 15, 2008. OMB must receive your comments by this date in order to act quickly on the ICR.

ADDRESSES: All comments should reference DOT Docket No. FMCSA-2008-0211. You may submit comments to the Office of Information and Regulatory Affairs, Office of Management and Budget, 725 Seventeenth Street, NW., Washington, DC 20503, Attention: DOT/FMCSA Desk Officer.

FOR FURTHER INFORMATION CONTACT: Ms. Denise Ryan, Transportation Specialist, Office of Information Technology, Operations Division, Department of Transportation, Federal Motor Carrier Safety Administration, 6th Floor, West Building, 1200 New Jersey Ave., SE., Washington DC 20590. Telephone Number: (202) 493-0242; E-mail Address: denise.ryan@dot.gov. Office hours are from 9 a.m. to 5 p.m., Monday through Friday, except Federal Holidays.

SUPPLEMENTARY INFORMATION: Title: Application for Certificate of Registration for Foreign Motor Carriers and Foreign Motor Private Carriers.

OMB Control Number: 2126-0019.

Type of Request: Revision of a currently-approved information collection.

Respondents: Foreign motor carriers and commercial motor vehicle drivers.

Estimated Number of Respondents: 615.

Estimated Time per Response: 4 hours to complete Form OP-2.

Expiration Date: August 31, 2008.

Frequency of Response: Other (Once).

Estimated Total Annual Burden: 2,460 hours [615 responses × 4 hours to complete Form OP-2 = 2,460].

Background: Title 49 U.S.C. 13902(c) contains basic licensing procedures for registering foreign motor carriers to operate across the Mexico-U.S. border into the United States. Part 368 of title 49, CFR, contains the regulations that require Mexico-domiciled motor carriers to apply to FMCSA for a Certificate of Registration to provide interstate transportation in municipalities in the United States on the U.S.-Mexico international border or within the commercial zones of such municipalities as defined in 49 U.S.C. 13902(c)(4)(A). FMCSA carries out this registration program under authority delegated by the Secretary of Transportation.

Foreign (Mexico-based) motor carriers use Form OP-2 to apply for a Certificate of Registration from the FMCSA. The form requests information on the foreign motor carrier's name, address, U.S. DOT Number, form of business (e.g., corporation, sole proprietorship, partnership), locations where the applicant plans to operate, types of registration requested (e.g., for-hire motor carrier, motor private carrier), insurance, safety certifications, household goods arbitration certifications, and compliance certifications.

Public Comments Invited: You may comment on any aspect of this information collection, including: (1) Whether the proposed collection is necessary for the FMCSA to perform it's functions; (2) the accuracy of the estimated burden; (3) ways for the FMCSA to enhance the quality, usefulness, and clarity of the collected information; and (4) ways that the burden could be minimized without reducing the quality of the collected information.

Issued on: August 6, 2008.
Terry Shelton,
Associate Administrator for Research and Information Technology.

[FR Doc. E8-18902 Filed 8-14-08; 8:45 am]

BILLING CODE 4910-EX-P